DEPARTMENT OF ENERGY

Federal Energy Regulatory Commission

Notice of Application for Amendment of License and Soliciting Comments, Motions To Intervene, and Protests

January 16, 2003.

Take notice that the following application has been filed with the Commission and is available for public inspection:

a. Application Type: Amendment of license to add transmission line as a project feature, and revise project boundary.

b. Project No: 2816-020.

c. Date Filed: December 20, 2002.

d. Applicant: Mr. Gleb Ginka trustee for Vermont Electric Generation & Transmission Cooperative, Inc. (Tranferor), and North Hartland, LLC (Transferee).

e. Name of Project: North Hartland Project.

f. Location: The project is located on the Ottaquechee River at the U.S. Army Corps of Engineers' North Hartland Dam in Windsor County, Vermont.

g. Filed Pursuant to: Federal Power Act, 16 U.S.C. 791 (a) 825(r) and 799 and 801.

h. Applicant Contact: Mr. Gleb Ginka, 81 Glinka Road, Cabot, VT 05647-007. Tel: (802) 562-2828, or Mr. Robert L. Carey, North Hartland, LLC, Great Falls, VA 22066. Tel: (703) 561-0611.

i. FERC Contact: Any questions on this notice should be addressed to Mr. Vedula Y. Sarma at (202) 502-6190, or e-mail address: vedula.sarma@ferc.gov.

j. Deadline for filing comments and or motions: February 18, 2003.

All documents (original and eight copies) should be filed with: Magalie R. Salas, Secretary, Federal Energy Regulatory Commission, 888 First Street, NE., Washington DC 20426. Please include the project number (P-2816-020) on any comments or motions filed.

k. Description of Request: The licensee requests an amendment of license to as-built project works; specifically to add a primary transmission line approximately seven miles long from the project's switch yard to the Quechee Substation in Quechee, VT, as opposed to a one-quarter mile long line, and revise the project boundary accordingly.

l. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, call 1-866-208-3676 with or e-mail FERCOnlineSupport@ferc.gov . For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the applicant specified in the particular application.

p. Agency Comments—Federal, State, and local agencies are invited to file comments on the described application. A copy of the application may be obtained by agencies directly from the applicant. If an agency does not file comments within the time specified for filing comments, it will be presumed to have no comments. One copy of an agency's comments must also be sent to the applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-1499 Filed 1-22-03; 8:45 am]

BILLING CODE 6717-01-P